FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination—07/24/2006
20061390 | Reliance Steel & Aluminum Co | Yarde Metals, Inc | Yarde Metals, Inc.
20061423 | Paul G. Desmarais | MetLife, Inc | General American Life Insurance Company.
|  |  | Metropolitan Life Insurance Company.
|  |  | New England Life Insurance Company.
20061428 | First Data Corporation | Peace Software International Limited | Peace Software International Limited.
20061438 | Cash America International, Inc | The Check Giant, LLC | The Check Giant, LLC.
20061440 | Lindsay Goldberg & Bessemer II, LP | Brock Maintenance, Inc | Brock Maintenance, Inc.
20061441 | Lindsay Goldberg & Bessemer II, LP | Brock Holdings, Inc | Brock Holdings, Inc.
Transactions Granted Early Termination—07/25/2006
20061344 | Filtronic plc | Powerwave Technologies, Inc | Powerwave Technologies, Inc.
20061387 | Babcock & Brown Environmental Investments Ltd | Robert M. Beren | Trenton Agri Products LLC.
20061397 | Tata Tea Limited | Gryphon Partners II, L.P | Eight O'Clock Holdings, Inc.
20061422 | Secure Computing Corporation | Jay Chaudhry | CipherTrust, Inc.
20061425 | Energy Partners, Ltd | Stone Energy Corporation | Stone Energy Corporation.
20061427 | CHS Private Equity V LP | Suture Express, Inc | Suture Express, Inc.
20061443 | Spectrum Equity Investors V, L.P | Patrick J. Kilkenny | Arrowhead General Insurance Agency, Inc.
Transactions Granted Early Termination—07/26/2006
20061400 | Hilb Rogal & Hobbs Company | Thilman & Filippini, L.L.C | Thilman & Filippini, L.L.C.
Transactions Granted Early Termination—07/27/2006
20061311 | David and Anne Elizabeth Black | The McClatchy Company | The Beacon Journal Publishing Company.
20061409 | Syngenta AG | Conrad Fafard, Inc | Conrad Fafard, Inc.
Transactions Granted Early Termination—07/28/2006
20061364 | Fidelity Capital Operating Limited Partnership. | L. Francis Rooney, III | Hope Lumber & Supply Company, L.P.
20061426 | Oak Investment Partners XI, Limited Partnership. | Brazos Equity Fund, L.P | Cheddar's Holding Corp.
20061442 | H.I.G. Capital Partners III, L.P | Goldline Holdings, Inc | Goldline Holdings, Inc.
20061446 | BCE, Inc | Motient Corporation | Motient Corporation.
20061447 | C/R Stallion Investment Partnership, L.P | Abbeville Offshore Quarters, Inc | Abbeville Offshore Quarters, Inc.
20061450 | Tomisue S. Hilbert | Trevor and Edna H. Gray | Sunshine Holdings, Inc.
20061455 | Atlantic Power Corporation | Trans-Elect NTD Holdings Path 15, LLC | Trans-Elect NTD Holdings Path 15, LLC.
20061457 | Intel Corporation | Craig O. McCaw | Cleanwire Corporation.
20061458 | Berkshire Fund VI, Limited Partnership | N.E.W. Customer Service Companies, Inc | N.E.W. Customer Service Companies, Inc.
20061459 | ValueAct Capital Master Fund, L.P | Gevity HR, Inc | Gevity HR, Inc.
20061460 | Berkshire Fund, VII, L.P | N.E.W. Customer Service Companies, Inc | N.E.W. Customer Service Companies, Inc.
20061469 | Sterling Group Partners II, L.P | Ronald J. Pugh | North Louisiana Roofing Supply, Inc.
|  |  | Roofing Supply Group, Inc.
|  |  | Roofing Supply Ltd.
20061470 | NRDC Equity Partners Fund III LLC | Federated Department Stores, Inc | Conrad Realty Corporation.
|  |  | Federated Gift Card LLC.
|  |  | Federated Retail Holdings, Inc.
|  |  | Lord & Taylor Carousel, Inc.
|  |  | Lord & Taylor Finance, Inc.
|  |  | May Department Stores International, Inc.
20061473 | Partners Limited | Peter Munk | Trizec Canada Inc.
|  |  | Trizec Holdings Operating LLC.
|  |  | Trizec Properties, Inc.
20061480 | EMC Corporation | RSA Security Inc | RSA Security Inc.
Transactions Granted Early Termination—07/31/2006
20061079 | MediaNews Group, Inc | The McClatchy Company | Contra Costa Newspapers, Inc.
|  |  | Hills Newspapers, Inc.
|  |  | Knight Ridder Community Newspapers, Inc.
|  |  | Knight Ridder Daily News Group, Inc.
|  |  | Knight Ridder Targeted Publications, Inc.
|  |  | San Jose Mercury News.
|  |  | San Jose Mercury News, Inc.
|  |  | Wish Book Fund, Inc.
20061444 | Church & Dwight Co., Inc | Orange Glo International, Inc | Orange Glo International, Inc.
Transactions Granted Early Termination—08/01/2006
20061055 | Alon Israel Oil Company Ltd | Paramount Petroleum Corporation | Paramount Petroleum Corporation.
Transactions Granted Early Termination—08/02/2006
20061413 | SAB Miller Pic | Minott Wessinger | The McKenzie River Corporation.
20061431 | DUET | Duquesne Light Holdings, Inc | Duquesne Light Holdings, Inc.
20061466 | Elizabeth Arden Inc | Bruce H. and Rosalie N. Rosen | Sovereign Sales, LLC.
Transactions Granted Early Termination—08/03/2006
20061338 | Eduardo Artau Gomez | Donald R. Dizney | Clinica Dr. Perea, Inc.
|  |  | Geronimo Special Partnership, S.E.
|  |  | Hato Rey Medical Properties, Inc.
|  |  | Hospital Pavia Hato Rey, Inc.
|  |  | Hospital Pavia Santurce, Inc.
|  |  | Hospital Perea, Inc.
|  |  | M. Pavia Fernandez, Inc.
Transactions Granted Early Termination—08/04/2006
20061445 | Blackstone Capital Partners (Cayman) V L.P | Cendant Corporation | Travelport Inc.
20061478 | Blackstone Capital Partners V L.P | Encore Medical Corporation | Encore Medical Corporation.
20061494 | H.I.G. Capital Partners III, L.P | Michael J. Gould and Janice K. Gould | Gould & Lamb, LLC.
Transactions Granted Early Termination—08/07/2006
20061474 | Motorola, Inc | Craig O. McCaw | Clearwire Corporation.
|  |  | NextNet Wireless, Inc.
20061483 | Quaker Equities, Ltd | Empire Merchants, LLC | Empire Merchants, LLC.
20061484 | Charmer Industries, Inc | Empire Merchants, LLC | Empire Merchants, LLC.
20061487 | Gilead Sciences, Inc | Corus Phama, Inc. | Corus Pharma, Inc.
20061493 | Oscient Pharmaceuticals Corporation | Reliant Pharmaceuticals, Inc | Reliant Pharmaceuticals, Inc.
20061495 | Transportation Resource Partners, L.P | NPA LLC | Cycle Express LLC.
20061496 | Green Equity Investors IV, L.P | PETCO Animal Supplies, Inc | PETCO Animal Supplies, Inc.
20061498 | PCT Equity 2 Limited | Jeffrey A. Kramer | Bullet Line, Inc.
|  |  | Kwik Klik, LLC.
20061502 | Hoak Media, LLC | Wicks Communications & Media Partners, L.P | Community Television Services, Inc.
|  |  | Wicks Communications & Media Partners, L.P.
20061510 | Sun Capital Partners IV, L.P | Bruckmann, Rosser, Sherrill & Co., L.P | Real Mex Restaurants, Inc.
Transactions Granted Early Termination—08/08/2006
20061499 | Oak Investment Partners X, L.P | First Avenue Networks, Inc | First Avenue Networks, Inc.
20061500 | AMVESCAP PLC | Wilbur L. Ross, Jr. | Ross CG Management L.P.
|  |  | Ross Expansion Associates L.P.
|  |  | WL Ross & Co. LLC.
20061501 | Kemira Oyj | Cytec Industries, Inc | Cytec Industries, Inc.
20061506 | Wolseley plc | Mr. David B. McNair | Northern Water Works Supply, Inc.
20061509 | Water Street Capital Partners, L.P | Matria Healthcare, Inc | Facet Technologies, LLC.
Transactions Granted Early Termination—08/09/2006
20061462 | Quadrangle Capital Partners II L.P | Gary L. and Mary E. West | West Corporation.
20061463 | Thomas H. Lee Equity Fund VI, L.P | Gary L. and Mary E. West | West Corporation.
20061464 | Thomas H. Lee Parallel Fund VI, L.P | Gary L. and Mary E. West | West Corporation.
20061467 | Ashtead Group plc | NationsRent Companies, Inc | NationsRent Companies, Inc.
20061468 | Charys Holding Company, Inc | Cotton Holdings 1, Inc | Cotton Commercial USA, LP.
|  |  | Cotton Holdings 1, Inc.
|  |  | Cotton Restoration of Central Texas, LP.
20061479 | James W. Duffy | Rapid Industrial Plastics Co., Ltd | Rapid Industrial Plastics Co., Ltd.
20061504 | Kohlberg Investors V, L.P | Niagra Corporation | Niagara Corporation.
20061505 | The Home Depot, Inc | Edson Electric Supply, Inc | Edson Electric Supply, Inc.
20061507 | Group 1 Automotive, Inc | Marty Sussman | E&M Associates.
|  |  | ERMAR Associates, L.P.
|  |  | Marty Sussman, Inc. d/b/a Sussman Honda and Marty Sussman BM.
|  |  | Marty Sussman Limited, Inc. d/b/a/ Marty Sussman Acura.
|  |  | MES & EES Associates, L.P.
|  |  | Sussman Auto, Inc. d/b/a Sussman Acura.
Transactions Granted Early Termination—08\10\2006
20061434 | Croda International Plc | Imperial Chemical Industries PLC | ICI Uniqema Inc.
|  |  | Unichema Chemie B.V.
|  |  | Uniqema (Malaysia) Sdn Bhd.
Transactions Granted Early Termination—08\11\2006
20061515 | Cooper Industries, Ltd | OCM/GFI Power Opportunities Fund II, L.P | Cannon Technologies, Inc.
20061527 | Insight Enterprises, Inc | Level 3 Communications, Inc | Software Spectrum, Inc.
20061541 | Solidus Networks, Inc | S&H Greenpoints, Inc | S&H Greenpoints, Inc.

FOR FURTHER INFORMATION CONTACT: Sandra M. Peay, Contact Representative or Renee Hallman, Contact Representative, Federal Trade Commission, Premerger Notification Office, Bureau of Competition, Room H-303, Washington, DC 20580; (202) 326-3100.

By direction of the Commission.
Donald S. Clark,
Secretary.

[FR Doc. 06-7139 Filed 8-24-06; 8:45 am]

BILLING CODE 6750-01-M